FEDERAL COMMUNICATIONS COMMISSION

47 CFR Part 73

[DA 03-813]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and Amendment of the Commission's Rules to permit FM Channel and Class Modifications by Applications, 8 FCC Rcd 4735 (1993).

DATES: Effective April 8, 2003.

FOR FURTHER INFORMATION CONTACT: Kathleen Scheuerle, Media Bureau, (202) 418-2180.

SUPPLEMENTARY INFORMATION: This is a summary of the Commission's Report and Order, adopted March 19, 2003, and released March 21, 2003. The full text of this Commission decision is available for inspection and copying during regular business hours at the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, and 336.

2. Section 73.202(b), the Table of FM Allotments under Arkansas, is amended by removing Channel 299C2 and adding Channel 299C1 at Wrightsville.

3. Section 73.202(b), the Table of FM Allotments under Georgia, is amended by removing Channel 300C1 and adding Channel 300C2 at Hampton.

4. Section 73.202(b), the Table of FM Allotments under Idaho, is amended by removing Channel 271C1 and adding Channel 271C3 at Driggs.

5. Section 73.202(b), the Table of FM Allotments under Louisiana, is amended by removing Channel 258C1 and adding Channel 258C0 at Lake Charles.

6. Section 73.202(b), the Table of FM Allotments under Mississippi, is amended by removing Channel 276C2 and adding Channel 276C1 at Ocean Springs.

7. Section 73.202(b), the Table of FM Allotments under New Mexico, is amended by removing Channel 275C and adding Channel 275C0 at Kirtland.

8. Section 73.202(b), the Table of FM Allotments under Oregon, is amended by removing Channel 233C and adding Channel 233C0 at Canyon City.

9. Section 73.202(b), the Table of FM Allotments under Texas, is amended by removing Channel 262C and adding Channel 262C0 at Brownsville.

10. Section 73.202(b), the Table of FM Allotments under Virgin Islands, is amended by removing Channel 236B and adding Channel 237B at Christiansted.

Federal Communications Commission.
John A. Karousos,
Assistant Chief, Audio Division, Media Bureau.

[FR Doc. 03-8408 Filed 4-7-03; 8:45 am]

BILLING CODE 6712-01-P